DEPARTMENT OF AGRICULTURE

Food Safety and Inspection Service

[Docket No. FSIS-2015-0047]

Codex Alimentarius Commission: Meeting of the Codex Committee on Contaminants in Food

AGENCY: Office of the Deputy Under Secretary for Food Safety, USDA.

ACTION: Notice of public meeting and request for comments.

SUMMARY: The Office of the Deputy Under Secretary for Food Safety, U.S. Department of Agriculture (USDA), and the Food and Drug Administration (FDA), U.S. Department of Health and Human Services, are sponsoring a public meeting on March 7, 2016. The objective of the public meeting is to provide information and receive public comments on agenda items and draft United States (U.S.) positions to be discussed at the 10th Session of the Codex Committee on Contaminants in Food (CCCF) of the Codex Alimentarius Commission (Codex), taking place in Rotterdam, The Netherlands, April 4-8, 2016. The Deputy Under Secretary for Food Safety and FDA recognize the importance of providing interested parties the opportunity to obtain background information on the 10th Session of the CCCF and to address items on the agenda.

DATES: The public meeting is scheduled for Monday, March 7, 2016, from 1:00 p.m.-4:00 p.m.

ADDRESSES: The public meeting will take place at the Food and Drug Administration (FDA), Harvey W. Wiley Federal Building, Room 1A-001, Center for Food Safety and Applied Nutrition (CFSAN), 5100 Paint Branch Parkway, College Park, MD 20740. Documents related to the 10th Session of the CCCF will be accessible via the Internet at http://www.codexalimentarius.org/meetings-reports/en/.

Dr. Lauren Posnick Robin, U.S. Delegate to the 10th Session of the CCCF invites interested U.S. parties to submit their comments electronically to the following email address henry.kim@fda.hhs.gov.

Call-in-Number:

If you wish to participate in the public meeting for the 10th Session of the CCCF by conference call. Please use the call-in-number.

Call-in-Number: 1-888-844-9904.

The participant code will be posted on the Web page below: http://www.fsis.usda.gov/wps/portal/fsis/topics/international-affairs/us-codex-alimentarius/public-meetings.

Registration:

Attendees may register electronically at the same email address provided above by March 3, 2016. The meeting will be held in a Federal building. Early registration is encouraged as it will expedite entry into the building and parking area. Attendees should bring photo identification and plan for adequate time to pass through security screening systems. If you require parking, please include the vehicle make and tag number when you register. Attendees that are not able to attend the meeting in person, but wish to participate, may do so by phone.

Further Information About the 10th Session of the CCCF Contact: Henry Kim, Ph.D., Office of Food Safety, CFSAN/FDA, HFS-317, 5100 Paint Branch Parkway, College Park, MD 20740, Telephone: (240) 402-2023, Fax: (301) 436-2651, email: henry.kim@fda.hhs.gov

For Further Information About the Public Meeting Contact: Henry Kim, Ph.D., Office of Food Safety, CFSAN/FDA, HFS-317, 5100 Paint Branch Parkway, College Park, MD 20740, Telephone: (240) 402-2023, Fax: (301) 436-2651, email: henry.kim@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The CCCF is responsible for:

(a) Establishing or endorsing permitted maximum levels, and where necessary, revising existing guideline levels for contaminants and naturally occurring toxicants in food and feed;

(b) Preparing priority lists of contaminants and naturally occurring toxicants for risk assessment by the Joint FAO/WHO Expert Committee on Food Additives (JECFA);

(c) Considering and elaborating methods of analysis and sampling for the determination of contaminants and naturally occurring toxicants in food and feed;

(d) Considering and elaborating standards or codes of practice for related subjects; and

(e) Considering other matters assigned to it by the Commission in relation to contaminants and naturally occurring toxicants in food and feed.

The Committee is chaired by The Netherlands.

Issues To Be Discussed at the Public Meeting

The following items on the Agenda for the 10th Session of the CCCF will be discussed during the public meeting:

• Matters referred to the CCCF by the Codex Alimentarius Commission or its subsidiary bodies;

• Matters of interest arising from FAO and WHO (including JECFA);

• Matters of interest arising from other international organizations;

• Draft maximum level for inorganic arsenic in husked rice (at Step 7 of the Codex Decision Process);

• Proposed draft revision of maximum levels for lead in selected fruits and vegetables (fresh and processed) in the General Standard for Contaminants and Toxins in Food and Feed (at Step 4 of the Codex Decision Process);

• Proposed draft Code of Practice for the prevention and reduction of arsenic contamination in rice;

• Proposed draft maximum levels for cadmium in cocoa and cocoa derived products (at Step 4 of the Codex Decision Process);

• Draft Revision of the Code of Practice for the prevention of mycotoxin contamination in cereals (general provisions) (at Step 7 of the Codex Decision Process);

• Proposed draft Annexes to the Code of Practice for the prevention and reduction of mycotoxin contamination in cereals (at Step 4 of the Codex Decision Process);

• Proposed draft Code of Practice for the prevention and reduction of mycotoxin contamination in spices;

• Discussion paper on an Annex for ergot alkaloids to the Code of Practice for the prevention and reduction of mycotoxin contamination in cereals;

• Discussion paper on the development of maximum levels for mycotoxins in spices;

• Discussion paper on maximum levels for methylmercury in fish; and

• Priority list of contaminants and naturally occurring toxicants for evaluation by JECFA.

Each issue listed will be fully described in documents distributed, or to be distributed, by the Secretariat before the meeting. Members of the public may access or request copies of these documents (see ADDRESSES).

Public Meeting

At the March 7, 2016, public meeting, draft U.S. positions on the agenda items will be described and discussed, and attendees will have the opportunity to pose questions and offer comments. Written comments may be offered at the meeting or sent to Dr. Henry Kim for the 10th Session of the CCCF (see ADDRESSES). Written comments should state that they relate to activities of the 10th Session of the CCCF.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on February 8, 2016.
Paulo Almeida,
Acting U.S. Manager for Codex Alimentarius.

[FR Doc. 2016-02807 Filed 2-10-16; 8:45 am]

BILLING CODE 3410-DM-P